ENVIRONMENTAL PROTECTION AGENCY

[EPA-HQ-OAR-2023-0136; FRL-12616-01-OMS]

Agency Information Collection Activities; Submission to the Office of Management and Budget for Review and Approval; Comment Request; NESHAP for Clay Ceramics Manufacturing (Renewal)

AGENCY: Environmental Protection Agency (EPA).

ACTION: Notice.

SUMMARY: The Environmental Protection Agency (EPA) has submitted an information collection request (ICR), NESHAP for Clay Ceramics Manufacturing (EPA ICR Number 2510.03, OMB Control Number 2030-0048) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2023-0136, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025 An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP), for the regulations published at 40 CFR part 63, subpart KKKK were promulgated on October 26, 2015, amended on November 1, 2019, and minor technical corrections were made on November 19, 2021. These regulations apply to existing facilities and new facilities that manufacture pressed floor tile, pressed wall tile, or sanitaryware. New facilities include those that commenced construction or reconstruction on or after December 28, 2015. This information is being collected to assure compliance with 40 CFR part 63, subpart KKKKK.

Form numbers: None.

Respondents/affected entities: Clay ceramics manufacturing facilities.

Respondent's obligation to respond: Mandatory (40 CFR part 63, subpart KKKKK).

Estimated number of respondents: 3 (total).

Frequency of response: Initially and semiannually.

Total estimated burden: 2,650 hours (per year). Burden is defined at 5 CFR 1320.03(b).

Total estimated cost: $458,000 (per year), which includes $124,000 annualized capital or operation & maintenance costs.

Changes in the estimates: There is a decrease of 18,313 hours in the total estimated respondent burden compared with the ICR currently approved by OMB. This decrease is due to total estimated burden currently identified is the estimated average hours per year for years one through three of the ICR for the National Emission Standards for Hazardous Air Pollutants for Brick and Structural Clay Products Manufacturing (40 CFR part 63, subpart JJJJJ). The total estimated burden for this ICR extension is expected to be similar to the ongoing costs. Additionally, calculation adjustments appear in Table 1, where the recordkeeping requirements were omitted or miscalculated, namely, “Familiarize with regulatory requirements” had no hours allocated in the previous burden table. In addition, Repeat Performance test calculations and alternative fuel use estimates have calculation adjustments in order to distribute those costs evenly over the 3-year renewal period. There is an adjustment to the Capital/Startup vs. Operation and Maintenance (O&M) Costs table, now that the initial compliance and testing costs have passed and ongoing costs will be O&M only.

Courtney Kerwin,
Director, Information Engagement Division.

[FR Doc. 2025-03225 Filed 2-27-25; 8:45 am]

BILLING CODE 6560-50-P